DEPARTMENT OF ENERGY

Federal Energy Regulatory Commission

Combined Notice of Filings #1

Take notice that the Commission received the following electric rate filings:

Docket Numbers: ER10-1852-014; ER10-1971-029; ER11-4462-020.

Applicants: Florida Power & Light Company, NextEra Energy Power Marketing, LLC, NEPM II, LLC.

Description: Notification of Change in Status of Florida Power & Light Company, et al.

Filed Date: 7/26/16.

Accession Number: 20160726-5173.

Comments Due: 5 p.m. ET 8/16/16.

Docket Numbers: ER16-1479-001.

Applicants: Kentucky Utilities Company.

Description: Compliance filing: Compliance Filing Brown Solar Depriciation Rates to be effective 6/9/2016.

Filed Date: 7/27/16.

Accession Number: 20160727-5058.

Comments Due: 5 p.m. ET 8/17/16.

Docket Numbers: ER16-2019-000.

Applicants: Five Points Solar Park LLC.

Description: Supplement to June 24, 2016 Five Points Solar Park LLC tariff filing.

Filed Date: 7/21/16.

Accession Number: 20160721-5123.

Comments Due: 5 p.m. ET 8/1/16.

Docket Numbers: ER16-2289-000.

Applicants: Golden Fields Solar I, LLC.

Description: Initial rate filing: Market-Based Rate Tariff to be effective 8/1/2016.

Filed Date: 7/26/16.

Accession Number: 20160726-5148.

Comments Due: 5 p.m. ET 8/16/16.

Docket Numbers: ER16-2290-000.

Applicants: Spartan Renewable Energy, Inc.

Description: Baseline eTariff Filing: Spartan Renewable Energy, Inc. Market-Based Rate Tariff to be effective 1/1/2017.

Filed Date: 7/26/16.

Accession Number: 20160726-5151.

Comments Due: 5 p.m. ET 8/16/16.

Docket Numbers: ER16-2291-000.

Applicants: Duke Energy Carolinas, LLC.

Description: § 205(d) Rate Filing: Amendment to NCEMC NITSA SA No. 210 to be effective 7/1/2016.

Filed Date: 7/27/16.

Accession Number: 20160727-5031.

Comments Due: 5 p.m. ET 8/17/16.

Docket Numbers: ER16-2292-000.

Applicants: Public Service Company of Colorado.

Description: § 205(d) Rate Filing: PSCo-BkCoU-Trans Intercon Agrmt 0.0.0 Filing to be effective 9/26/2016.

Filed Date: 7/27/16.

Accession Number: 20160727-5060.

Comments Due: 5 p.m. ET 8/17/16.

Docket Numbers: ER16-2293-000.

Applicants: Drift Sand Wind Project, LLC.

Description: Baseline eTariff Filing: MBR Tariff to be effective 9/1/2016.

Filed Date: 7/27/16.

Accession Number: 20160727-5069.

Comments Due: 5 p.m. ET 8/17/16.

Docket Numbers: ER16-2294-000.

Applicants: Interstate Power and Light Company.

Description: § 205(d) Rate Filing: Revised IPL Rate Schedule for Blackstart Resource Services to be effective 9/1/2016.

Filed Date: 7/27/16.

Accession Number: 20160727-5072.

Comments Due: 5 p.m. ET 8/17/16.

Docket Numbers: ER16-2295-000.

Applicants: Duke Energy Carolinas, LLC.

Description: § 205(d) Rate Filing: Affected System Operating Agreement SA No. 481 to be effective 7/1/2016.

Filed Date: 7/27/16.

Accession Number: 20160727-5074.

Comments Due: 5 p.m. ET 8/17/16.

Docket Numbers: ER16-2296-000.

Applicants: Southwest Power Pool, Inc.

Description: Compliance filing: 3127 Montana-Dakota Utilities Co. NITSA and NOA to be effective 10/1/2015.

Filed Date: 7/27/16.

Accession Number: 20160727-5104.

Comments Due: 5 p.m. ET 8/17/16.

Docket Numbers: ER16-2297-000.

Applicants: Osborn Wind Energy, LLC.

Description: Baseline eTariff Filing: Osborn Wind Energy, LLC Application for Market-Based Rates to be effective 10/1/2016.

Filed Date: 7/27/16.

Accession Number: 20160727-5105.

Comments Due: 5 p.m. ET 8/17/16.

Take notice that the Commission received the following electric securities filings:

Docket Numbers: ES16-45-000.

Applicants: Spring Canyon Interconnection LLC.

Description: Application for Blanket Authorization to Issue Securities and Assume Liabilities of Spring Canyon Interconnection LLC.

Filed Date: 7/20/16.

Accession Number: 20160720-5166.

Comments Due: 5 p.m. ET 8/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2016.
Nathaniel J. Davis, Sr.,
Deputy Secretary.

[FR Doc. 2016-18284 Filed 8-1-16; 8:45 am]

BILLING CODE 6717-01-P